POSTAL SERVICE

39 CFR Part 601

Purchasing of Property and Services

AGENCY: Postal Service.

ACTION: Final rule.

SUMMARY: The Postal Service is revising the provision of its purchasing regulations concerning contract claims and disputes to update references to the Contract Disputes Act of 1978, as recodified, and to notify contractors of the implementation of an electronic filing system by the Postal Service Board of Contract Appeals.

DATES: Effective date: July 6, 2015.

ADDRESSES: Written inquiries may be addressed to Supply Management Infrastructure, USPS, Room 1141, 475 L'Enfant Plaza SW., Washington, DC 20260.

FOR FURTHER INFORMATION CONTACT: Paul McGinn, (202) 268-4638.

SUPPLEMENTARY INFORMATION: This document contains two revisions to 39 CFR 601.109, Contract claims and disputes. That section implements the Contract Disputes Act of 1978, 41 U.S.C. 7101-7109. The first amended paragraph, § 601.109(a), General, states that the regulation implements the Contract Disputes Act of 1978. The sole purpose of the revision is to update the recodified citation for the Contract Disputes Act.

The second amended paragraph, § 601.109(g)(7), Wording of decisions, clarifies that the identified paragraph must be included in decisions issued by a contracting officer for the Postal Service subject to the Contract Disputes Act of 1978, and advises contractors of the implementation of an electronic filing system by the Postal Service Board of Contract Appeals.

List of Subjects in 39 CFR Part 601

Government procurement.

Accordingly, for the reasons stated, 39 CFR part 601 is amended as follows:

PART 601—PURCHASING OF PROPERTY AND SERVICES

1. The authority citation for 39 CFR part 601 continues to read as follows:

Authority: 39 U.S.C. 401, 404, 410, 411, 2008, 5001-5605.

2. In § 601.109, revise paragraphs (a) and (g)(7) to read as follows:

§ 601.109 Contract claims and disputes.

(a) General. This section implements the Contract Disputes Act of 1978, as amended (41 U.S.C. 7101-7109). If ADR is used, the SDR official may serve as a mediator for contract performance disagreements prior to bringing a contract claim or dispute under this part.

* * * * *

(g) * * *

(7) Wording of decisions. The contracting officer's final decision must contain the following paragraph: “This is the final decision of the contracting officer pursuant to the Contract Disputes Act of 1978 and the clause of your contract entitled Claims and Disputes. You may appeal this decision to the Postal Service Board of Contract Appeals by filing a new Postal Service Board of Contract Appeals case through the USPS Judicial Officer Department's Electronic Filing System Web site located at https://uspsjoe.newdawn.com/JusticeWeb within ninety days from the date you receive this decision. You also may appeal this decision to the Postal Service Board of Contract Appeals by mailing or otherwise furnishing written notice to the contracting officer within ninety days from the date you receive this decision. The notice should identify the contract by number, reference this decision, and indicate that an appeal is intended. Alternatively, you may bring an action directly in the United States Court of Federal Claims within twelve months from the date you receive this decision.”

* * * * *

Stanley F. Mires,
Attorney, Federal Compliance.

[FR Doc. 2015-13558 Filed 6-3-15; 8:45 am]

BILLING CODE 7710-12-P